DEPARTMENT OF AGRICULTURE

Forest Service

Flathead National Forest; Montana; Mid-Swan Landscape Restoration & Wildland Urban Interface Fuels Project

AGENCY: Forest Service, USDA.

ACTION: Notice of intent to prepare an environmental impact statement.

SUMMARY: The Mid-Swan Landscape Restoration and Wildland Urban Interface Fuels Project (Mid-Swan) area encompasses approximately 246,000 acres within the larger 1.3 million acre Southwestern Crown of the Continent landscape. This project is part of a long-term effort between the USDA Forest Service and the Southwestern Crown Collaborative to restore the resilience and function of the ecosystem within this landscape. The Mid-Swan project is proposing treatments on approximately 70,000 acres to improve aquatic and terrestrial biodiversity by removing vegetation, planting drought tolerant species found there historically, and reducing fuel buildup in the wildland urban interface (WUI).

DATES: Comments concerning the scope of the analysis must be received by November 23, 2018. The publication of the Draft Environmental Impact Statement (DEIS) is expected in April 2019, and the Final Environmental Impact Statement (FEIS) is expected to be published in October 2019.

ADDRESSES: Send written comments to Mid-Swan Project, Attention: Sandy Mack, 24 Fort Missoula Road, Missoula, MT 59804. Comments may also be sent via email to bslrp@fs.fed.us, or submitted through an electronic form available on our project page at https://www.fs.usda.gov/projects/flathead/landmanagement/projects.

FOR FURTHER INFORMATION CONTACT: Sandy Mack, Team Leader, via email at spmack@fs.fed.us, or calling 406-329-3817; Chris Dowling, Swan Lake District Ranger, via email at cdowling@fs.fed.us, or calling 406-837-7501.

Individuals who use telecommun- ication devices for the deaf (TDD) may call the Federal Information Relay Service (FIRS) at 1-800-877-8339 between 8 a.m. and 8 p.m., Eastern Time, Monday through Friday.

SUPPLEMENTARY INFORMATION

Purpose and Need for Action

Today's Mid-Swan landscape is the result of mixed ownerships across a diverse landscape with a variety of forest types. Timber harvest was prevalent in this area through the 20th century with combined state forest cutting to support local schools, harvest for commercial timber interests owned by Plum Creek, and National Forest System (NFS) lands that are managed for multiple uses. Fire suppression and commercially aggressive harvest practices left fire intolerant tree species behind to reseed the area. A logging method known as high-grading was practiced in some areas that removed the best trees and their naturally selected seed source. Roads in the area were built to a mix of design standards; and, are in various states of maintenance with less stable roads contributing to sedimentation into watersheds.

The purpose of the Mid-Swan project is to restore and maintain aquatic biodiversity, and terrestrial biodiversity. It is also to reduce the risk from wildfire in the wildland urban interface where national forest system lands are close or adjacent to private land. The Mid-Swan area is at risk of losing key habitat components for native aquatic and terrestrial species in this ecologically important landscape. Currently state, federal and private infrastructure, recreationists, and residents are at risk from fire. Wildland firefighters are especially at risk when engaging with extreme wildfire behavior in this area.

The Mid-Swan landscape was assessed with three-dimensional high resolution aerial photography through photo interpretation, ground truthing, and modeling in order to determine the needs across the landscape.

The following problems have been identified regarding aquatic biodiversity within the project area:

1. Amount of sediment in streams;

2. fish barriers blocking access to available habitat; and

3. lack of small scale disturbance in riparian areas due to reduced beaver activity and warming waters.

Problems with terrestrial biodiversity include:

1. Loss of large trees and old forest structure;

2. loss of western white pine and whitebark pine;

3. Lynx habitat quality and distribution and long-term availability;

4. missed fire intervals through fire suppression (fire deficit);

5. overabundance of young forests with multi-stories and shade tolerant species, in particular subalpine fir;

6. highly fragmented forests in the valley bottom (too many small patches); and

7. homogenous forests at higher elevations due to fire suppression (in a few large patches).

An analysis of the WUI identified that current fuel conditions would create flame lengths greater than four feet precluding direct attack. Crown fire initiation and crown fire propagation conditions are high.

Proposed Action

In order to restore and maintain aquatic ecosystem resilience, this project proposes to storm proof (decommission, store, or improve) approximately 167 miles of existing Forest Service roads, including about 20 miles of road that are within riparian management zones (RMZ). The goals of the project include: Reducing sediment loads in streams through road storage and decommissioning (storm proofing); removal of five fish passage barriers (culverts) at road/stream crossings; application of vegetative treatment actions within RMZs to better match desired conditions; and, to install beaver dam analog structures at nine stream sites to increase water holding capacity in cold water drainages. The artificial beaver dams would slightly offset predicted climate induced stressors in key stream reaches.

The Mid-Swan EIS will also propose treatments on forest ecosystems to promote resilience by reducing ladder fuels, decreasing crown bulk density, and reducing the risk of crown fire in large ponderosa pine, western larch and Douglas-fir forest types. Other proposed treatments will include thinning to reduce competition from shade tolerant conifers. Goals include planting rust resistant western white pine stock in suitable areas after regeneration harvest. Tree composition will also be improved through the removal of encroaching subalpine fir and Engelmann spruce and the planting of rust resistant whitebark pine. Another goal of the Mid-Swan project is to restore whitebark pine stands by caching rust resistant whitebark pine seeds; and, converting overabundant competing multistory subalpine fir patches to other cover types with better structural stages. Whitebark pine restoration would also be promoted by breaking up large homogeneous patches through mechanical treatments and prescribed fire.

To reduce risk of wildfire in the WUI, proposed actions will include removing vegetation to reduce potential flame lengths to four feet or less; reducing ladder fuels to minimize crown fire initiation; and reduction of canopy fuels to minimize crown fuel propagation.

Vegetation treatments would include: Non-commercial thinning on approximately 2,900 acres, thinning with variable retention on 12,000 acres, thinning with regeneration openings on 21,700 acres, regeneration harvest with variable retention on 7,400 acres, controlled burning on 24,600 acres, planting on 500 acres, and seed caching on 900 acres. Proposed treatment methods include the use of tractor, skyline, helicopter, and hand treatments. The total number of acres proposed for treatment is approximately 70,000. Both temporary and permanent road construction would be needed to access treatments. This project would not change, increase, or reduce open motorized travel routes identified in the Flathead National Forest Motor Vehicle Use Map.

Responsible Official

The Responsible Official for this project is the Flathead National Forest Supervisor.

Nature of Decision To Be Made

The Flathead National Forest Supervisor will decide whether to implement the action as proposed, take no action, or to implement an alternative, or combination of alternatives, that have been analyzed. The Forest Supervisor will also decide whether to amend the Land and Resource Management Plan, if necessary, to implement the decision.

Forest Plan Amendment

Two project-specific suspension of forest plan standards would be required to implement the proposed actions and achieve desired conditions. The substantive requirements of the 2012 Planning Rule (36 CFR 219) that are directly related to the proposed amendments are § 36 CFR 219.8 (a)(1); 219.9 (a)(1); 219.9 (a)(2); 219.9 (b)(1); and 219.10 (a)(8). The proposed amendments are:

1. Conduct non-commercial thinning and regeneration operations in snowshoe hare habitat that occurs from the stand initiation structural stage (Northern Rockies Lynx Management Direction (NRLMD) Standard Veg S5).

2. Conduct thinning activities in mature, multi-story lynx and snowshoe hare habitat (NRLMD Standard Veg S6).

Permits or Licenses Required

When the project is scheduled for implementation the appropriate 404 permits and approval from the US Army Corps of Engineers will be obtained for fish barrier removal and beaver dam analog structures among other proposed actions. Montana Streamside Protection Act, 124 permits, would be obtained for any activity that disturbs stream channels.

Scoping Process

This notice of intent (NOI) to publish an EIS initiates the scoping process, which guides the development of the EIS. An open house will be scheduled following the publication of this NOI and release of the scoping document. The public will be informed through mailing and media release of the date, time, and location.

Your comments will be most useful if they describe a specific action and the environmental effects of that action (cause and effect). If you cite literature in your comments please provide us with a complete bibliography and a copy of the reference material.

It is important that reviewers provide their comments so they are useful to the Agency's preparation of the EIS. Comments should be provided prior to the close of the comment period and should clearly articulate the reviewer's concerns and contentions.

Comments received in response to this solicitation, including names and addresses of those who comment, will be part of the public record for this proposed action. Comments submitted anonymously will be accepted and considered.

Dated: October 4, 2018.
Allen Rowley,
Acting Associate Deputy Chief, National Forest System.

[FR Doc. 2018-23086 Filed 10-22-18; 8:45 am]

BILLING CODE 3411-15-P